FEDERAL COMMUNICATIONS COMMISSION

47 CFR Part 73

[DA 02-159; MM Docket No. 00-41; RM-9369]

Radio Broadcasting Services; Oakville, Raymond, and South Bend, Washington

AGENCY: Federal Communications Commission.

ACTION: Final rule.

SUMMARY: In response to a Notice of Proposed Rule Making, 65 FR 15886 (March 24, 2000), this document reallots Channel 249C1 from Raymond, Washington to Oakville, Washington, and provides Oakville with its first local aural transmission service. The coordinates for Channel 249C1 at Oakville are 46-57-14 North Latitude and 123-29-21 West Longitude. This document also reallots Channel 289C2 from South Bend, Washington, to Raymond, Washington. The coordinates for Channel 289C2 at Raymond are 46-55-53 North Latitude and 123-44-02 West Longitude. This document also allots Channel 300A to South Bend, Washington, as its first local aural transmission service. The coordinates for Channel 300A at South Bend are 46-38-19 North Latitude and 123-49-54 West Longitude. The foregoing new allotments have received the concurrence of the Canadian government.

DATES: Effective March 4, 2002.

FOR FURTHER INFORMATION CONTACT: R. Barthen Gorman, Mass Media Bureau, (202) 418-2180.

SUPPLEMENTARY INFORMATION: This is a synopsis of the Commission's Report and Order, MM Docket No. 00-41, adopted January 9, 2002, and released January 18, 2002. The full text of this Commission decision is available for inspection and copying during normal business hours in the FCC's Reference Information Center at Portals II, CY-A257, 445 12th Street, SW, Washington, DC. This document may also be purchased from the Commission's duplicating contractors, Qualex International, Portals II, 445 12th Street, SW, Room CY-B402, Washington, DC, 20554, telephone 202-863-2893, facsimile 202-863-2898, or via e-mail qualexint@aol.com.

List of Subjects in 47 CFR Part 73

Radio broadcasting.

Part 73 of Title 47 of the Code of Federal Regulations is amended as follows:

PART 73—RADIO BROADCAST SERVICES

1. The authority citation for part 73 reads as follows:

Authority: 47 U.S.C. 154, 303, 334 and 336.

§ 73.202 [Amended]

1. Section 73.202(b), the Table of FM Allotments under Washington, is amended by adding Oakville, Channel 249C1, and removing Channel 249C3 and adding Channel 289C2 at Raymond, and removing Channel 289C2 and adding Channel 300A at South Bend.

Federal Communications Commission.
John A. Karousos,
Chief, Allocations Branch, Policy and Rules Division, Mass Media Bureau.

[FR Doc. 02-2617 Filed 2-1-02; 8:45 am]

BILLING CODE 6712-01-P